DEPARTMENT OF THE TREASURY

United States Mint

Notification of Citizens Coinage Advisory Committee November 2005; Public Meeting

SUMMARY: Pursuant to United States Code, Title 31, section 5135(b)(8)(C), the United States Mint announces a Citizens Coinage Advisory Committee (CCAC) public meeting scheduled for November 15, 2005.

Date: November 15, 2005.

Time: 1 p.m. to 2 p.m.

Location: The meeting will occur via teleconference. Interested members of the public may attend the meeting at the United States Mint; 801 Ninth Street, NW., Washington, DC; 2nd floor.

Subject: Finalize the CCAC's annual report and other business.

Interested persons should call 202-354-7502 for the latest update on meeting time, and location.

Public Law 108-15 Established the CCAC to

• Advise the Secretary of the Treasury on any theme or design proposals relating to circulating coinage, bullion coinage, Congressional gold medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Brendan Adams, United States Mint Liaison to the CCAC; 801 Ninth Street, NW., Washington, DC 20220; or call 202-354-7200.

Any member of the public interested in submitting matters for the CCAC's consideration is invited to submit them by fax to the following number: 202-756-6830.

Authority: 31 U.S.C. 5135(b)(8)(C).

Dated: October 19, 2005.
David A. Lebryk,
Acting Director, United States Mint.

[FR Doc. 05-21324 Filed 10-25-05; 8:45 am]

BILLING CODE 4810-37-P